DEPARTMENT OF COMMERCE

National Oceanic and Atmospheric Administration

50 CFR Part 648

[Docket No. 051104293 5344-02; I.D. 121806B]

Fisheries of the Northeastern United States; Atlantic Bluefish Fishery; Quota Transfers

AGENCY: National Marine Fisheries Service (NMFS), National Oceanic and Atmospheric Administration (NOAA), Commerce.

ACTION: Temporary rule; inseason quota transfer.

SUMMARY: NMFS announces that the State of Maryland is transferring 45,000 lb (20,412 kg) of commercial bluefish quota to the State of Rhode Island from its 2006 quota and that the State of Delaware is transferring 15,000 lb (6,804 kg) of commercial bluefish quota to the State of Rhode Island. By this action, NMFS adjusts the quotas and announces the revised commercial quota for each state involved.

DATES: Effective December 21, 2006 through December 31, 2006, unless NMFS publishes a superseding document in the Federal Register.

FOR FURTHER INFORMATION CONTACT: Douglas Potts, Fishery Management Specialist, (978) 281-9341, fax (978) 281-9135.

SUPPLEMENTARY INFORMATION: Regulations governing the Atlantic bluefish fishery are found at 50 CFR part 648. The regulations require annual specification of a commercial quota that is apportioned among the coastal states from Florida through Maine. The process to set the annual commercial quota and the percent allocated to each state are described in § 648.160.

Two or more states, under mutual agreement and with the concurrence of the Administrator, Northeast Region, NMFS (Regional Administrator), can transfer or combine bluefish commercial quota under § 648.160(f). The Regional Administrator is required to consider the criteria set forth in § 648.160(f)(1) in the evaluation of requests for quota transfers or combinations.

Maryland has agreed to transfer 45,000 lb (20,412 kg) of its 2006 commercial quota to Rhode Island. Delaware has agreed to transfer 15,000 lb (6,804 kg) of its 2006 commercial quota to Rhode Island. The Regional Administrator has determined that the criteria set forth in § 648.160(f)(1) have been met for each of these transfers. The revised quotas for calendar year 2006 are: Rhode Island, 602,101 lb (273,108 kg); Maryland, 194,021 lb (88,006 kg); and Delaware, 134,553 (61,032 kg).

Classification

This action is taken under 50 CFR part 648 and is exempt from review under Executive Order 12866.

Authority: 16 U.S.C. 1801 et seq.

Dated: December 20, 2006.
Alan D. Risenhoover,
Director, Office of Sustainable Fisheries, National Marine Fisheries Service.

[FR Doc. 06-9878 Filed 12-21-06; 2:17 pm]

BILLING CODE 3510-22-S